DEPARTMENT OF ENERGY

Federal Energy Regulatory Commission

Combined Notice of Filings

Take notice that the Commission has received the following Natural Gas Pipeline Rate and Refund Report filings:

Filings Instituting Proceedings

Docket Numbers: RP14-72-000.

Applicants: Natural Gas Pipeline Company of America.

Description: Natural Gas Pipeline Company of America LLC submits tariff filing per 154.204: Negotiated Rate—BP to be effective 11/1/2013.

Filed Date: 10/28/13.

Accession Number: 20131028-5025.

Comments Due: 5 p.m. ET 11/12/13.

Docket Numbers: RP14-73-000.

Applicants: Iroquois Gas Transmission System, L.P.

Description: Iroquois Gas Transmission System, L.P. submits tariff filing per 154.204: 10/28/13 Negotiated Rates—BP Energy Company (HUB) 1410-89 to be effective 11/1/2013.

Filed Date: 10/28/13.

Accession Number: 20131028-5027.

Comments Due: 5 p.m. ET 11/12/13.

Docket Numbers: RP14-74-000.

Applicants: Iroquois Gas Transmission System, L.P.

Description: Iroquois Gas Transmission System, L.P. submits tariff filing per 154.204: 10/28/13 Negotiated Rates—Sequent Energy Management (HUB) 3075-89 to be effective 11/1/2013.

Filed Date: 10/28/13.

Accession Number: 20131028-5040.

Comments Due: 5 p.m. ET 11/12/13.

Docket Numbers: RP14-75-000.

Applicants: ANR Pipeline Company.

Description: ANR Pipeline Company submits tariff filing per 154.204: Reservation Charge Crediting Provisions to be effective 12/2/2013.

Filed Date: 10/28/13.

Accession Number: 20131028-5136.

Comments Due: 5 p.m. ET 11/12/13.

Docket Numbers: RP14-76-000.

Applicants: TransColorado Gas Transmission Company L.

Description: TransColorado Gas Transmission Company LLC submits tariff filing per 154.402: Statement of Rates Correction to be effective 10/1/2013.

Filed Date: 10/28/13.

Accession Number: 20131028-5165.

Comments Due: 5 p.m. ET 11/12/13.

Docket Numbers: RP14-77-000.

Applicants: Equitrans, L.P.

Description: Equitrans, L.P. submits tariff filing per 154.601: Negotiated Rate Service Agreement—EQT Energy, LLC to be effective 10/1/2013.

Filed Date: 10/29/13.

Accession Number: 20131029-5002.

Comments Due: 5 p.m. ET 11/12/13.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated October 29, 2013.
Nathaniel J. Davis, Sr.,
Deputy Secretary.

[FR Doc. 2013-26970 Filed 11-8-13; 8:45 am]

BILLING CODE 6717-01-P